DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of public comment period for the Revised Management Plan for the Delaware National Estuarine Research Reserve.

SUMMARY: Notice is hereby given that the Estuarine Reserves Division, Office of Ocean and Coastal Resource Management, National Ocean Service, National Oceanic and Atmospheric Administration (NOAA), U.S. Department of Commerce is announcing a thirty day public comment period on the Delaware National Estuarine Research Reserve Management Plan Revision which will begin on the day this announcement is published. Comments should be sent within the comment period in hard copy or e-mail to Cory Riley at Cory.Riley@noaa.gov or NOAA's Estuarine Reserves Division, 1305 East-West Highway, N/ORM5, 10th floor, Silver Spring, MD 20910.

The Delaware National Estuarine Research Reserve was designated in 1993 pursuant to section 315 of the Coastal Zone Management Act of 1972, as amended, 16 U.S.C. 1461. The reserve has been operating under a management plan approved in 1993. Pursuant to 15 CFR 921.33(c), a state must revise its management plan every five years. The submission of this plan fulfills this requirement and sets a course for successful implementation of the goals and objectives of the reserve. Changes in the administrative structure of the reserve, a boundary expansion, new facility and land acquisition plans, and updated programmatic objectives are notable revisions to the 1993 approved management plan.

When the Delaware National Estuarine Research Reserve was designated, it was managed jointly by three divisions within the Delaware Department of Natural Resources and Environmental Control. Since that time, the Division of Soil and Water has become the sole state agency administering reserve activities. The revised management plan outlines the administrative structure; the education, stewardship, and research goals of the reserve; and the plans for future land acquisition and facility development to support reserve operations.

One hundred and forty seven (147) acres adjacent to the Blackbird Creek component site are incorporated through the boundary amendment in the management plan revision. The previous reserve boundary around Blackbird Creek did not include an access point to the estuarine habitat. The expansion adds land that was acquired in fee simple from willing sellers. The new boundary and will provide direct access to the Blackbird Creek for reserve related research and education programs. These parcels also provide excellent passive recreation and educational opportunities in an area that was previously not accessible to the public. Forested uplands, wetlands and marsh habitat will be protected through this expansion to ensure the Blackbird Creek component is an appropriate site for long term research and education.

FOR FURTHER INFORMATION CONTACT: Cory Riley at (301) 563-7222 or Laurie McGilvray at (301) 563-1158 of NOAA's National Ocean Service, Estuarine Reserves Division, 1305 East-West Highway, N/ORM5, 10th floor, Silver Spring, MD 20910. For copies of the Delaware Management Plan revision, visit http://www.dnrec.state.de.us/DNREC2000/Divisions/Soil/DNERR/.

Dated: March 2, 2005.
Eldon Hout,
Director, Office of Ocean and Coastal Resource Management, National Oceanic and Atmospheric Administration.

[FR Doc. 05-4389 Filed 3-7-05; 8:45 am]

BILLING CODE 3510-08-P